DEPARTMENT OF HEALTH AND HUMAN SERVICES

42 CFR Part 81

[Docket Number NIOSH-0209]

RIN 0920-AA39

Guidelines for Determining Probability of Causation Under the Energy Employees Occupational Illness Compensation Program Act of 2000; Revision of Guidelines on Non-Radiogenic Cancers; Extension of Comment Period

AGENCY: National Institute for Occupational Safety and Health (NIOSH), Centers for Disease Control and Prevention (CDC), Department of Health and Human Services (HHS).

ACTION: Notice of proposed rulemaking; extension of comment period.

SUMMARY: On March 21, 2011, the Department of Health and Human Services (HHS) published a Notice of Proposed Rulemaking proposing to treat chronic lymphocytic leukemia (CLL) as a radiogenic cancer under the Energy Employees Occupations Illness Compensation Program Act (EEOICPA) of 2000. The public comment period was scheduled to end on June 20, 2011. We have received a request asking to extend the public comment period. In consideration of this request, HHS is extending the public comment period by 30 days to July 20, 2011.

DATES: The comment period for the proposed rule published March 21, 2011 (76 FR 15268), is extended. Written or electronic comments must be received on or before July 20, 2011. Please refer to SUPPLEMENTARY INFORMATION for additional information.

ADDRESSES: You may submit comments, identified by RIN 0920-AA39, by any of the following methods:

• Federal eRulemaking Portal: http://www.regulations.gov. Follow the instructions for submitting comments.

• E-mail: nioshdocket@cdc.gov. Include “RIN: 0920-AA39” and “42 CFR Part 81” in the subject line of the message.

• Mail: NIOSH Docket Office, Robert A. Taft Laboratories, MS-C34, 4676 Columbia Parkway, Cincinnati, OH 45226.

Instructions: All submissions received must include the agency name and docket number or Regulation Identifier Number (RIN) for this rulemaking, RIN 0920-AA39. All comments received will be posted without change to http://www.cdc.gov/niosh/docket/archive/docket209.html, including any personal information provided.

Docket: For access to the docket to read background documents or comments received, go to http://www.cdc.gov/niosh/docket/archive/docket209.html.

FOR FURTHER INFORMATION CONTACT: Stuart Hinnefeld, Director, Division of Compensation Analysis and Support, National Institute for Occupational Safety and Health (NIOSH), 4676 Columbia Parkway, MS-C46, Cincinnati, OH 45226; telephone 513-533-6800 (this is not a toll-free number). Information requests can also be submitted by e-mail to dcas@cdc.gov.

SUPPLEMENTARY INFORMATION: HHS published a proposed rule entitled “Guidelines for Determining Probability of Causation Under the Energy Employees Occupational Illness Compensation Program Act of 2000,” on Monday, March 21, 2011 (76 FR 15268).

In the notice of proposed rulemaking, HHS would treat chronic lymphocytic leukemia (CLL) as a radiogenic cancer under the Energy Employees Occupational Illness Compensation Program Act of 2000 (EEOICPA). Under current guidelines promulgated by HHS as regulations in 2002, all types of cancers except for CLL are treated as being potentially caused by radiation and hence, as potentially compensable under EEOICPA. HHS proposes to reverse its decision to exclude CLL from such treatment.

HHS received a request to extend the comment period. In consideration of that request, HHS is extending the comment period by 30 days, such that all comments must be received on or before July 20, 2011. This extended deadline will have provided commenters with 90 days for comment on the proposed rule while preserving the Agency's ability to make timely progress on this occupational health priority.

Accordingly, the comment period for the proposed rule published March 21, 2011 (76 FR 15268), is extended until July 20, 2011.

Dated: June 20, 2011.
Kathleen Sebelius,
Secretary, Department of Health and Human Services.

[FR Doc. 2011-15703 Filed 6-20-11; 4:15 pm]

BILLING CODE P